DEPARTMENT OF THE INTERIOR

National Park Service

General Management Plan/Abbreviated Final Environmental Impact Statement, Roosevelt-Vanderbilt National Historic Sites, Hyde Park, NY

AGENCY: National Park Service, Department of the Interior.

ACTION: Notice of Availability of the Abbreviated Final Environmental Impact Statement for the General Management Plan, Roosevelt-Vanderbilt National Historic Sites, Hyde Park, NY.

SUMMARY: Pursuant to National Environmental Policy Act of 1969, 42 U.S.C. 4332 (2) (C), the National Park Service (NPS) announces the availability of the Abbreviated Final Environmental Impact Statement for the General Management Plan (GMP/EIS) for Roosevelt-Vanderbilt National Historic Sites, Hyde Park, New York.

The Abbreviated Final GMP/EIS includes an analysis of agency and public comments received on the Draft GMP/EIS with NPS responses, errata sheets detailing editorial corrections to the Draft GMP/EIS, and copies of agency and substantive public comments. No changes have been made to the alternatives or to the impact analysis presented in the Draft GMP/EIS. Therefore, Action Alternative Two remains as the National Park Service Preferred Alternative.

The public release of the Abbreviated Final GMP/EIS will be followed by a 30-day no-action period, after which a Record of Decision will be prepared to document the selected alternative and set forth any stipulations for implementation of the GMP. The Abbreviated Final GMP/EIS and the Draft GMP/EIS constitute the complete and final documentation upon which the Record of Decision will be based.

DATES: The NPS will execute a Record of Decision no sooner than 30 days following publication by the Environmental Protection Agency of the Notice of Availability of the Abbreviated Final GMP/EIS in the Federal Register.

ADDRESSES: The Abbreviated Final GMP/EIS is available online at the NPS Planning, Environment and Public Comment (PEPC) Web site (http://parkplanning.nps.gov/rova). Hard-copies of the document are available for inspection at the Hyde Park Free Library, 2 Main Street, Hyde Park, NY.

FOR FURTHER INFORMATION CONTACT: Superintendent, Roosevelt-Vanderbilt National Historic Sites, 4097 Albany Post Road, Hyde Park, NY 12538, Phone: 845.229.9116, ext. 33, Sarah_Olson@nps.gov.

SUPPLEMENTARY INFORMATION: The Draft GMP/EIS addresses the three units of the national park system that compose Roosevelt-Vanderbilt National Historic Sites: Home of Franklin D. Roosevelt National Historic Site (NHS); Eleanor Roosevelt NHS; and Vanderbilt Mansion NHS. The three national historic sites are combined into a single administrative unit, but each was established by separate legislation. The Draft GMP/EIS evaluates alternatives to guide the management of the national historic sites over the next 20 years. The No-Action Alternative continues the current management direction. Action Alternative One emphasizes restoring historic appearance of the properties and encouraging visitors to explore more of the estate buildings and landscape. Action Alternative Two seeks to make the parks relevant to more audiences by encouraging greater civic participation in park activities, while significantly enhancing the historic character of park resources. Action Alternative Two is the agency Preferred Alternative. The Draft GMP/EIS was available for public and agency review from December 24, 2009 through February 28, 2010. Copies of the document were sent to individuals, agencies, and organizations, and were made available at park visitor centers, local library, and on the NPS Planning, Environment, and Public Comment (PEPC) Web site (http://parkplanning.nps.gov/rova). Public open houses were held on January 28 and 29, 2010.

Dennis R. Reidenbach,
Regional Director, Northeast Region, National Park Service.

[FR Doc. 2010-18705 Filed 7-29-10; 8:45 am]

BILLING CODE P